DEPARTMENT OF HEALTH AND HUMAN SERVICES

Solicitation for Written Comments on an Updated Health Literacy Definition for Healthy People 2030

AGENCY: Office of Disease Prevention and Health Promotion, Office of the Assistant Secretary for Health, Office of the Secretary, Department of Health and Human Services.

ACTION: Notice.

SUMMARY: The Department of Health and Human Services (HHS) provides notice of a request for comments about the proposed update to the definition of health literacy. The Secretary's Advisory Committee on National Health Promotion and Disease Prevention Objectives for Healthy People 2030 used the following working definition: “Health literacy occurs when a society provides accurate health information and services that people can easily find, understand, and use to inform their decisions and actions.”

DATES: Written comments must be submitted by August 5, 2019.

ADDRESSES: Written comments will be accepted via email at Definehealthliteracy@HHS.gov.

FOR FURTHER INFORMATION CONTACT: Stephanie Santana, Public Health Analyst, U.S. Department of Health and Human Services, Office of the Assistant Secretary for Health, Office of Disease Prevention and Health Promotion, 1101 Wootton Parkway, Rockville, MD 20852. 240-453-8265 Email: Definehealthliteracy@HHS.gov.

SUPPLEMENTARY INFORMATION: Healthy People and health literacy. Healthy People provides science-based, 10-year national objectives for improving the health of all Americans. Health literacy objectives have been tracked in Healthy People 2010 and 2020 and will also be included in Healthy People 2030.

Health literacy is one of the Healthy People 2030 framework's foundational principles (“Achieving health and well-being requires eliminating health disparities, achieving health equity, and attaining health literacy”) and one of its overarching goals (“Eliminate health disparities, achieve health equity, and attain health literacy to improve the health and well-being of all”).

Current Healthy People health literacy definition. The following definition of health literacy has been used in Healthy People 2010 and Healthy People 2020: “Health literacy is the degree to which individuals have the capacity to obtain, process, and understand basic health information needed to make appropriate health decisions.”

This definition of health literacy has had a tremendous impact on the field, influencing health literacy measurement and improvement efforts around the world.

The Secretary's Advisory Committee on National Health Promotion and Disease Prevention Objectives used this working definition of health literacy for 2030: “Health literacy occurs when a society provides accurate health information and services that people can easily find, understand, and use to inform their decisions and actions.”

This working definition reflects the evolution of the concept of health literacy toward a consensus that health literacy is affected not only by an individual's capacities, but also by the accessibility, clarity, and actionability of health information and health services.

Submission Instructions. Comments should:

1. Address the strengths and/or weaknesses of the recommended definition,

2. Be brief and concise; Limit 250 words

3. Make specific editing suggestions, and

4. Cite articles that support suggested changes (if any).

Reference Material

Healthy People 2030 Framework. Available at https://www.healthypeople.gov/2020/About-Healthy-People/Development-Healthy-People-2030/Framework.

Pleasant, A., R.E. Rudd, C. O'Leary, M.K. Paasche-Orlow, M.P. Allen, W. Alvarado-Little, L. Myers, K. Parson, and S. Rosen. 2016. Considerations for a New Definition of Health Literacy. NAM Perspectives. Discussion Paper, National Academy of Medicine, Washington, DC. doi: 10.31478/201604a. https://doi.org/10.31478/201604a.

Secretary's Advisory Committee on National Health Promotion and Disease Prevention Objectives for 2030. Issue Briefs to Inform Development and Implementation of Healthy People 2030. Retrieved from: https://www.healthypeople.gov/sites/default/files/HP2030_Committee-Combined-Issue%20Briefs_2019-508c.pdf.

Dated: May 22, 2019.
Donald Wright,
Deputy Assistant Secretary for Health.

[FR Doc. 2019-11571 Filed 6-3-19; 8:45 am]

BILLING CODE 4150-32-P